DEPARTMENT OF LABOR

Employment and Training Administration

[TA-W-54,128]

Precision Disc Corporation, Knoxville, TN; Notice of Revised Determination on Reconsideration

On June 3, 2004, the Department of Labor issued a Notice of Affirmative Determination Regarding Application for Reconsideration for workers of the subject firm. The notice was published in the Federal Register on June 15, 2004 (69 FR 33423).

To support the request for reconsideration, the petitioner supplied additional major declining customers to supplement those that were surveyed during the initial investigation. The survey revealed increased customer imports of saw core products during the relevant period. The imports accounted for a meaningful portion of the subject plant's lost sales and production.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have not been met.

The investigation revealed that the petitioning worker group possess skills that are easily transferable.

Conclusion

After careful review of the additional facts obtained on reconsideration, I conclude that increased imports of articles like or directly competitive with those produced at the subject firm contributed importantly to the declines in sales or production and to the total or partial separation of workers at the subject firm. In accordance with the provisions of the Act, I make the following certification:

All workers of Precision Disc Corporation, Knoxville, Tennessee, who became totally or partially separated from employment on or after January 27, 2003, through two years from the date of this certification, are eligible to apply for adjustment assistance under section 223 of the Trade Act of 1974, and are denied eligibility to apply for alternative trade adjustment assistance under section 246 of the Trade Act of 1974.

Signed in Washington, DC, this 12th day of August, 2004.
Linda G. Poole,
Certifying Officer, Division of Trade Adjustment Assistance.

[FR Doc. 04-19100 Filed 8-19-04; 8:45 am]

BILLING CODE 4510-30-P